DEPARTMENT OF ENERGY

Federal Energy Regulatory Commission

[Docket Nos. RP00-336-014]

El Paso Natural Gas Company; Notice of Technical Conference

September 12, 2003.

The Commission, in its order of August 29, 2003 in this proceeding,¹ directed that a technical conference be held to address the issues raised by El Paso Natural Gas Company's (El Paso) tariff compliance filing of August 1, 2003.

¹ 104 FERC ¶ 61,232 (2003).

Take notice that a technical conference will be held on Wednesday, September 24, 2003, at 9 am, in a room to be designated at the Federal Energy Regulatory Commission, 888 First Street NE., Washington, DC 20426.

All interested parties are permitted to attend.

The issues addressed at the conference will be related to El Paso's August 1, 2003 filing and the implementation of capacity reallocation on the El Paso system which was effective September 1, 2003. These issues include, but are not limited to, receipt-delivery point combinations, primary delivery points for Block capacity, scheduling priorities, and pro rata allocations.

For further information please contact: Ingrid Olson at (202) 502-8406 or Elizabeth Zerby at (202) 502-8143.

Magalie R. Salas,
Secretary.

[FR Doc. 03-23808 Filed 9-17-03; 8:45 am]

BILLING CODE 6717-01-P